DEPARTMENT OF HOUSING AND URBAN DEVELOPMENT

[Docket No. FR-4837-D-11]

Redelegation of Authority for Rural Housing and Economic Development Grants Awarded to Indian Tribes and Tribal Entities

AGENCY: Office of the Assistant Secretary for Public and Indian Housing, HUD.

ACTION: Notice of redelegation of authority.

SUMMARY: This notice redelegates to the Deputy Assistant Secretary for Native American Programs in the Office of Native American Programs (ONAP) of the Office of Public and Indian Housing, the Director of the Denver ONAP Office of Grants Management, and the Director of the Denver ONAP Office of Grants Evaluation, the authority to administer Rural Housing and Economic Development grants awarded to Indian Tribes and tribal entities.

EFFECTIVE DATE: July 18, 2003.

FOR FURTHER INFORMATION CONTACT: Edward Fagan, Office of Native American Programs, Office of Public and Indian Housing, Department of Housing and Urban Development, 451 Seventh Street, SW., Room 4126, Washington DC 20410-5000; telephone (202) 401-7914 (this is not a toll-free number). For those needing assistance, this number may be accessed through TTY by calling the toll-free Federal Information Relay Service at 1-800-877-8339.

SUPPLEMENTARY INFORMATION: The Rural Housing and Economic Development (RHED) program provides funding to Indian tribes, state housing finance agencies, state community and/or economic development agencies, local rural nonprofits and community development corporations to support innovative housing and economic development activities in rural areas. The program is authorized in annual HUD appropriations acts and was originally authorized in the Fiscal Year (FY) 1998 HUD Appropriation Act (Pub. L. 105-65, 111 Stat. 1344, 1357, approved October 27, 1997). The RHED program is administered by the Assistant Secretary for Community Planning and Development. However, because of the unique relationship between the Office of Public and Indian Housing and Indian tribes, the Secretary delegated to the Assistant Secretary for Public and Indian Housing the authority to administer RHED grants awarded to Indian tribes and tribal entities by the Assistant Secretary for Community Planning and Development.

This notice redelegates the authority to administer RHED grants from the Assistant Secretary for Public and Indian Housing to the Deputy Assistant Secretary for Native American Programs, the Director of the Denver ONAP Office of Grants Management, and the Director of the Denver ONAP Office of Grants Evaluation.

Section A. Authority Redelegated

The Assistant Secretary for Public and Indian Housing redelegates the authority to administer RHED grants awarded to Indian Tribes and tribal entities to the Deputy Assistant Secretary for Native American Programs, and the Director, Denver ONAP Office of Grants Management, and the Director, Denver ONAP Office of Grants Evaluation in the Office of Native American Programs.

Section B. Authority Excepted

The authority redelegated under Section A does not include: (1) The authority to issue and waive regulations; and (2) the authority to sue and be sued.

Section C. Authority Revoked

The Assistant Secretary for Public and Indian Housing revokes all prior delegations pertaining to RHED grants awarded to Indian Tribes and tribal entities, including but not limited to, the delegation of authority published on September 28, 1999 (64 FR 52340).

Authority: Section 7(d), Department of Housing and Urban Development Act (42 U.S.C. 3535(d)).

Dated: July 18, 2003.
Michael Liu,
Assistant Secretary for Public and Indian Housing.

[FR Doc. 03-22844 Filed 9-8-03; 8:45 am]

BILLING CODE 4210-33-P